DEPARTMENT OF COMMERCE

International Trade Administration

A-570-863

Honey from the People's Republic of China: Initiation of New Shipper Antidumping Duty Reviews

AGENCY: Import Administration, International Trade Administration, Department of Commerce.

EFFECTIVE DATE: July 31, 2006.

SUMMARY: In June 2006, the Department of Commerce (“the Department”) received requests to conduct new shipper reviews of the antidumping duty order on honey from the People's Republic of China (“PRC”). We have determined that these requests meet the statutory and regulatory requirements for the initiation of new shipper reviews.

FOR FURTHER INFORMATION CONTACT: Catherine Bertrand or Anya Naschak, AD/CVD Operations, Office 9, Import Administration, International Trade Administration, U.S. Department of Commerce, 14th Street and Constitution Avenue, NW, Washington, DC 20230; telephone: (202) 482-3207 or (202) 482-6375, respectively.

SUPPLEMENTARY INFORMATION:

Background

The Department received timely requests from Hangzhou Golden Harvest Health Industry Co., Ltd. (“Golden Harvest”), and Qingdao Aolan Trade Co., Ltd. (“Qingdao Aolan”) in accordance with section 751(a)(2)(B) of the Tariff Act of 1930, as amended (“the Act”) and 19 CFR 351.214 (c), for new shipper reviews of the antidumping duty order on honey from the PRC, which has a December annual anniversary month, and a June semi-annual anniversary month. Golden Harvest and Qingdao Aolan identified themselves as producers and exporters of honey. As required by 19 CFR 351.214(b)(2)(i), and (iii)(A), Golden Harvest, and Qingdao Aolan certified that they did not export honey to the United States during the period of investigation (“POI”), and that they have never been affiliated with any exporter or producer which exported honey to the United States during the POI. Furthermore, the three companies have also certified that their export activities are not controlled by the government of the PRC, satisfying the requirements of 19 CFR 351.214(b)(2)(iii)(B). Pursuant to 19 CFR 351.214(b)(2)(iv), Golden Harvest and Qingdao Aolan submitted documentation establishing the date on which the subject merchandise was first entered for consumption in the United States, the volume of that first shipment and any subsequent shipments, and the date of the first sale to an unaffiliated customer in the United States.

The Department conducted Customs database queries and analyzed Customs entry packages to confirm that the shipments of Golden Harvest and Qingdao Aolan had officially entered the United States via assignment of an entry date in the Customs database by U.S. Customs and Border Protection (“CBP”). In addition, the Department confirmed the existence of Golden Harvest and Qingdao Aolan and their U.S. customers. We note that although Golden Harvest and Qingdao Aolan submitted documentation regarding the volume of their shipments, and the date of their first sale to an unaffiliated customer in the United States, CBP entry documents and our Customs database query show that Qingdao Aolan's shipment entered the United States shortly after the anniversary month.

Under 19 CFR 351.214(f)(2)(ii), when the sale of the subject merchandise occurs within the period of review (“POR”), but the entry occurs after the normal POR, the POR may be extended unless it would be likely to prevent the completion of the review within the time limits set by the Department's regulations. The preamble to the Department's regulations states that both the entry and the sale should occur during the POR, and that under “appropriate” circumstances the Department has the flexibility to extend the POR. Antidumping Duties; Countervailing Duties; Final Rule, 62 FR 27296, 27319-27320 (May 19, 1997). In this instance, Qingdao Aolan's shipments entered in the month following the end of the POR. The Department does not find that this delay prevents the completion of the review within the time limits set by the Department's regulations.

Initiation of Review

In accordance with section 751(a)(2)(B) of the Act and 19 CFR 351.214(d)(1), and based on information on the record, we are initiating new shipper reviews for Golden Harvest and Qingdao Aolan. See Memorandum to the File through James C. Doyle, “New Shipper Review Initiation Checklist,” dated June 24, 2006. We intend to issue the preliminary results of these reviews not later than 180 days after the date on which these reviews were initiated, and the final results of these reviews within 90 days after the date on which the preliminary results were issued.

Pursuant to 19 CFR 351.214(g)(1)(i)(A), the POR for a new shipper review, initiated in the month immediately following the semi-annual anniversary month, will be the six-month period immediately preceding the semi-annual anniversary month. As discussed above, under 19 CFR 351.214(f)(2)(ii), when the sale of the subject merchandise occurs within the POR, but the entry occurs after the normal POR, the POR may be extended. Therefore, the POR for the new shipper reviews of Golden Harvest and Qingdao Aolan is December 1, 2005, through June 30, 2006.

Pursuant to the Department's regulations, in cases involving non-market economies, the Department requires that a company seeking to establish eligibility for an antidumping duty rate separate from the country-wide rate provide evidence of de jure and de facto absence of government control over the company's export activities. Accordingly, we will issue questionnaires to Golden Harvest and Qingdao Aolan, including a separate rates section. The review will proceed if the responses provide sufficient indication that Golden Harvest and Qingdao Aolan are not subject to either de jure or de facto government control with respect to their exports of honey. However, if Golden Harvest or Qingdao Aolan do not demonstrate their eligibility for a separate rate, then that company will be deemed not separate from other companies that exported during the POI and the new shipper review will be rescinded as to that company.

In accordance with section 751(a)(2)(B)(iii) of the Act and 19 CFR 351.214(e), we will instruct CBP to allow, at the option of the importers, the posting, until the completion of the review, of a single entry bond or security in lieu of a cash deposit for certain entries of the merchandise exported by Golden Harvest and Qingdao Aolan. Specifically, since Golden Harvest and Qingdao Aolan have stated that they are both the producers and exporters of the subject merchandise for the sales under review, we will instruct CBP to limit the bonding option only to entries of merchandise that were both exported and produced by Golden Harvest and Qingdao Aolan, respectively. Interested parties that need access to proprietary information in these new shipper reviews should submit applications for disclosure under administrative protective orders in accordance with 19 CFR 351.305 and 351.306.

This initiation and notice are in accordance with section 751(a) of the Act, 19 CFR 351.214(d), and 19 CFR 351.221(c)(1)(i).

Dated: July 20, 2006.
Stephen J. Claeys,
Deputy Assistant Secretary for Import Administration.

[FR Doc. E6-12223 Filed 7-31-06; 8:45 am]

BILLING CODE 3510-DS-S